FEDERAL COMMUNICATIONS COMMISSION

47 CFR Part 74

[GN Docket No. 12-268; FCC 14-50]

Expanding the Economic and Innovation Opportunities of Spectrum Through Incentive Auctions

AGENCY: Federal Communications Commission.

ACTION: Final rule; announcement of effective date.

SUMMARY: In this document, the Federal Communications Commission (Commission) announces that the Office of Management and Budget (OMB) has approved, for a period of three years, information collection requirements associated with the Commission's Report and Order, GN Docket No. 12-268, FCC 14-50. This notice is consistent with the Report and Order, which stated that the Commission would publish a document in the Federal Register announcing OMB approval and the effective date of the requirements.

DATES: The amendment to 47 CFR 74.802(b)(2), published at 79 FR 48442, August 15, 2014 is effective on April 1, 2015.

FOR FURTHER INFORMATION CONTACT: For additional information contact Cathy Williams, Cathy.Williams@fcc.gov, (202) 418-2918.

SUPPLEMENTARY INFORMATION: This document announces that, on March 17, 2015, OMB approved the information collection requirements contained in the Commission's Report and Order, FCC 14-50, published at 79 FR 48442, August 15, 2014. The OMB Control Number is 3060-1205. The Commission publishes this notice as an announcement of the effective date of the requirements. If you have any comments on the burden estimates listed below, or how the Commission can improve the collections and reduce any burdens caused thereby, please contact Cathy Williams, Federal Communications Commission, Room 1-C823, 445 12th Street SW., Washington, DC 20554. Please include the OMB Control Number, 3060-1205, in your correspondence. The Commission will also accept your comments via email at PRA@fcc.gov. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on March 17, 2015, for the new information collection requirements contained in the Commission's rules at 47 CFR 74.802(b)(2).

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1205.

The foregoing notice is required by the Paperwork Reduction Act of 1995, Public Law 104-13, October 1, 1995, and 44 U.S.C. 3507.

The total annual reporting burdens and costs for the respondents are as follows:

OMB Control Number: 3060-1205.

OMB Approval Date: March 17, 2015.

OMB Expiration Date: March 31, 2018.

Title: Section 74.802, Low Power Auxiliary Stations Co-channel Coordination with TV Broadcast Stations.

Form Number: Not Applicable.

Respondents: Business or other for-profit entities; not-for-profit institutions; Federal government; and state, local or tribal government.

Number of Respondents and Responses: 400 respondents; 227 responses.

Estimated Time per Response: 1 hour.

Frequency of Response: On occasion reporting requirement and third party disclosure requirement.

Obligation to Respond: Required to obtain or retain benefits. The statutory authority for this collection is contained in sections 47 U.S.C. 151, 154, 301, 303, 307, 308, 309, 310, 316, 319, 325(b), 332, 336(f), 338, 339, 340, 399b, 403, 534, 535, 1404, 1452, and 1454.

Total Annual Burden: 227 hours.

Total Annual Cost: $56,750.00.

Nature and Extent of Confidentiality: In general there is no need for confidentiality with this collection of information.

Privacy Act Impact Assessment: There are no impacts under the Privacy Act.

Needs and Uses: The Federal Communications Commission (Commission) received approval for a new collection under OMB Control No. 3060-1205 from the Office of Management and Budget (OMB). On June 2, 2014, the Commission released a Report and Order, FCC 14-50, GN Docket No. 12-268, “Expanding the Economic and Innovation Opportunities of Spectrum Through Incentive Auctions.” This order adopted a revision to a Commission rule, 47 CFR 74.802(b), to permit low power auxiliary stations (LPAS), including wireless microphones, to operate in the bands allocated for TV broadcasting at revised distances from a co-channel television's contour, and provided LPAS operators to operate even closer to television stations provided that any such operations are coordinated with TV broadcast stations that could be affected by the LPAS operations. The Commission sought Office of Management and Budget (OMB) approval for a new information collection for the coordination process adopted in the Commission's Report and Order, FCC 14-50, for such co-channel operations, in 47 CFR 74.802d(b)(2).

Federal Communications Commission.
Marlene H. Dortch,
Secretary, Office of the Secretary, Office of the Managing Director.

[FR Doc. 2015-07391 Filed 3-31-15; 8:45 am]

BILLING CODE 6712-01-P